FEDERAL ACCOUNTING STANDARDS ADVISORY BOARD

Notice of Issuance of Statement of Federal Financial Accounting Concepts (SFFAC) No. 5

AGENCY: Federal Accounting Standards Advisory Board.

ACTION: Notice of Issuance of Statement of Federal Financial Accounting Concepts (SFFAC) No. 5, Definition of Elements and Basic Recognition Criteria for Accrual-Basis Financial Statements.

Board Action: Pursuant to 31 U.S.C. 3511(d), the Federal Advisory Committee Act (Pub. L. No. 92-463), as amended, and the FASAB Rules of Procedure, as amended in April 2004, notice is hereby given that the Federal Accounting Standards Advisory Board (FASAB) has issued Statement of Federal Financial Accounting Concept 5, Definition of Elements and Basic Recognition Criteria for Accrual-Basis Financial Statements.

Copies of the concept can be obtained by contacting FASAB at 202-512-7350. The concept is also available on FASAB's home page http://www.fasab.gov/codifica.html.

FOR FURTHER INFORMATION CONTACT: Wendy M. Payne, Executive Director, 441 G St., NW., Mail Stop 6K17V, Washington, DC 20548, or call (202) 512-7350.

Authority: Federal Advisory Committee Act, Pub. L. No. 92-463.

Dated: February 20, 2008.
Charles Jackson,
Federal Register Liaison Officer.

[FR Doc. 08-837 Filed 2-25-08; 8:45 am]

BILLING CODE 1610-01-M